DEPARTMENT OF COMMERCE

National Oceanic and Atmospheric Administration

[I.D.093003A]

Marine Mammals; File No. 699-1720

AGENCY: National Marine Fisheries Service (NMFS), National Oceanic and Atmospheric Administration (NOAA), Commerce.

ACTION: Issuance of permit.

SUMMARY: Notice is hereby given that Dr. Kathryn Ono, Department of Biological Sciences, University of New England, 11 Hills Beach Road, Biddeford, Maine, 04005 has been issued a permit to take (Phoca vitulina concolor), gray seals (Halichoerus grypus), harp seals (Phoca groenlandica) and hooded seals (Cystophora cristata) for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Northeast Region, NMFS, One Blackburn Drive, Gloucester, MA 01930-2298; phone (978) 281-9200; fax (978) 281-9371.

FOR FURTHER INFORMATION CONTACT: Sarah Wilkin or Jennifer Jefferies, (301) 713-2289.

SUPPLEMENTARY INFORMATION: On July 29, 2003, notice was published in the Federal Register (68 FR 44526) that a request for a scientific research permit to take “the species identified above” had been submitted by the above-named individual. The requested permit has been issued under the authority of the Marine Mammal Protection Act of 1972, as amended (16 U.S.C. 1361 et seq.), the Regulations Governing the Taking and Importing of Marine Mammals (50 CFR part 216).

The purpose of the research is to assess the health of the Northeast Atlantic harbor seal population residing along the coast of Maine. The permit authorizes the applicant to take up to 200 harbor seals annually by capture, and physically restrain and sample 20 young of the year pups. Morphometric measurements, samples of blood, feces, and skin biopsies will be taken, and flipper tags attached. Annually, up to 10 pups will have satellite tags attached to allow movement tracking and behavioral analysis. Accidental mortality of 2 harbor seals annually is authorized. Accidental capture and immediate release of 5 gray seals, 3 harp seals, and 3 hooded seals annually is also authorized. Additionally, Level B Harassment (disturbance of animals on haul-outs) is authorized for 400 harbor seals, 5 grey seals, 3 harp seals and 3 hooded seals annually. The research will study movement and migration patterns for young of the year pups. The movements, disease load, survival and behavior of wild-caught pups will be compared with rehabilitated pups from the same population and cohort to determine baseline “normal” behavior. The Permit will expire September 30, 2008.

Dated: October 2, 2003.
Stephen L. Leathery,
Chief, Permits, Conservation and Education Division, Office of Protected Resources, National Marine Fisheries Service.

[FR Doc. 03-25927 Filed 10-10-03; 8:45 am]

BILLING CODE 3510-22-S